DEPARTMENT OF JUSTICE

[OMB 1140-0050]

Agency Information Collection Activities; Proposed eCollection eComments Requested; Revision of a Previously Approved Collection; Identification Markings Placed on Firearms

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until December 6, 2024.

FOR FURTHER INFORMATION CONTACT: If you have additional comments especially on the estimated public burden or associated response time, suggestions, or need a copy of the proposed information collection instrument with instructions or additional information, contact: Jennifer Scott, FIPB, either by mail at Bureau of Alcohol, Tobacco, Firearms, and Explosives; 99 New York Ave., Washington, DC 20226, by email at fipb-informationcollection@atf.gov or telephone at 202-648-7190.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Each licensed firearms manufacturer and licensed firearms importer must legibly identify each firearm by engraving, casting, stamping (impressing), or otherwise conspicuously placing on the frame or receiver an individual serial number, any associated license number, and all other additional required information to a depth of at least .003 inch and in a print size no smaller than 1/16 inch. Used to facilitate the investigations of the criminal use of firearms. Information Collection (IC) OMB #1140-0050 is being revised to reflect an increase in costs resulting from an increase in the number of respondents and firearms covered by the information collection, and from adding both a burden hour monetized value and start-up costs based on a rulemaking that occurred since the last time this collection was renewed.

Overview of This Information Collection

1. Type of Information Collection: Revision of a previously approved collection.

2. The Title of the Form/Collection: Identification Markings Placed on Firearms.

3. The agency form number, if any, and the applicable component of the Department sponsoring the collection: None.

Component: Bureau of Alcohol, Tobacco, Firearms and Explosives, U.S. Department of Justice.

4. Affected public who will be asked or required to respond, as well as the obligation to respond: Affected Public: Private Sector-for or not for profit institutions.

The obligation to respond is mandatory per 18 U.S.C Chapter 44 and 26 U.S.C § 5842.

5. An estimate of the total number of respondents and the amount of time estimated for an average respondent to respond: An estimated 22,662 respondents will provide information in compliance with this information collection once per firearm, and it will take each respondent approximately 1 minute to complete their responses.

6. An estimate of the total annual burden (in hours) associated with the collection: The estimated annual public burden associated with this collection is 257,419,782 total hours, which is equal to 15,455,156 (total respondents) * 1 (# of response per respondent) * 0.016666667 (1 minute).

7. An estimate of the total annual cost burden associated with the collection, if applicable: 45,598,278.

Total Burden Hours
Activity | Number of respondents | Frequency (per firearm) | Total annual responses | Time per response | Total annual burden (hours)
Identification Markings Placed on Firearms | 22,662 | 1 | 15,445,156 | 0.016666667 | 257,419,782
Unduplicated Totals | 22,662 | 1 | 15,445,156 | 0.016666667 | 257,419,782

If additional information is required contact: Darwin Arceo, Department Clearance Officer, United States Department of Justice, Justice Management Division, Policy and Planning Staff, Two Constitution Square, 145 N Street NE, 4W-218, Washington, DC.

Dated: October 2, 2024.
Darwin Arceo,
Department Clearance Officer for PRA, U.S. Department of Justice.

[FR Doc. 2024-23156 Filed 10-4-24; 8:45 am]

BILLING CODE 4410-FY-P